DEPARTMENT OF HOUSING AND URBAN DEVELOPMENT

[Docket No. FR-5995-N-5]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301)-443-2265 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AGRICULTURE: Ms. Debra Kerr, Department of Agriculture, OPPM, Property Management Division, Agriculture South Building, 300 7th Street SW., Washington, DC 20024, (202)-720-8873; COE: Ms. Brenda Johnson-Turner, HQUSACE/CEMP-CR, 441 G Street NW., Washington, DC 20314, (202)-761-7238; ENERGY: Mr. David Steinau, Department of Energy, Office of Asset Management (MA-50), U.S. Department of Energy, 1000 Independence Avenue SW., Washington, DC 20585-0002, (202)-287-1503; INTERIOR: Mr. Michael Wright, Acquisition and Property Management, Department of the Interior, 3960 N. 56th Ave., #104 Hollywood, FL. 33021, (754)-400-7381; NAVY: Ms. Nikki Hunt, Department of the Navy, Asset Management Division, Naval Facilities Engineering Command, Washington Navy Yard, 1330 Patterson Ave. SW., Suite 1000, Washington, DC 20374, (202)-685-9426; (These are not toll-free numbers).

Dated: January 26, 2017.
Brian P. Fitzmaurice,
Director, Division of Community Assistance Office of Special Needs Assistance Programs.

TITLE V, FEDERAL SURPLUS PROPERTY PROGRAM FEDERAL REGISTER REPORT FOR 02/03/2017

Suitable/Available Properties

Land

California

A Portion of Tehama Colusa

Canal Site Unit T-277 & T-268

Arbuckle CA 95912

Landholding Agency: Interior

Property Number: 61201710015

Status: Excess

Directions: T-277 (7.72 acres); T-268 (4.62 acres)

Comments: Contact Interior for more details on a specify property.

Unsuitable Properties

Building

California

Tuolumne Meadows Gas Station

Yosemite National Park

Yosemite CA 95389

Landholding Agency: Interior

Property Number: 61201710014

Status: Excess

Comments: Soil and groundwater contaminates.

Reasons: Contamination

Colorado

Buford Guard Station

2 Buildings

27085 County Road 8

Meeker CO 81641

Landholding Agency: Agriculture

Property Number: 15201710001

Status: Excess

Directions: Barn & Dwelling

Comments: Severe infestation of mice/rodents; high-risk of hantavirus.

Reasons: Extensive deterioration

Illinois

5 Buildings

Argonne National Laboratory

Argonne IL 60439

Landholding Agency: Energy

Property Number: 41201710001

Status: Excess

Directions: Building 399; 607; 202 X&Y; 606; 384

Comments: Public access denied and no alternative method to gain access without compromising national security.

Reasons: Secured Area

6 Buildings

Argonne National Laboratory

Argonne IL 60439

Landholding Agency: Energy

Property Number: 41201710002

Status: Excess

Directions: Building 391; 390; 389B; 375D; 375A; 311

Comments: Public access denied and no alternative method to gain access without compromising national security.

Reasons: Secured Area

Kansas

Big Hill Lake

Mound Valley

Big Hill Lake Office-PO BOX 426

Cherryvale KS 67335

Landholding Agency: COE

Property Number: 31201710001

Status: Unutilized

Comments: Documented deficiencies: major cracks in foundation/wall; clear threat to physical safety.

Reasons: Extensive deterioration

Maryland

Radio Repeater Station Shed

Assateague Island Nat'l Seashore

Snow Hill MD 21863

Landholding Agency: Interior

Property Number: 61201710007

Status: Excess

Comments: Property located within floodway which has not been correct or contained.

Reasons: Floodway

Nevada

2 Buildings

Nevada National Security Site

Area 23

Mercury NV 89093

Landholding Agency: Energy

Property Number: 41201710003

Status: Unutilized

Directions: FIMS Asset ID 997075 (Building 23-425); FIMS Asset ID 993330 (Building 23-152)

Comments: Public access denied and no alternative method to gain access without compromising national security; friable asbestos.

Reasons: Secured Area; Contamination

North Carolina

Bill Smith House

Cape Lookout National Seashore

North Core Banks NC 28531

Landholding Agency: Interior

Property Number: 61201710008

Status: Unutilized

Comments: Dilapidated; unsound structurally; located on Barrier Island only accessible by boat.

Reasons: Isolated area; Floodway; Secured Area

Sammy Mason House

Cape Lookout National Seashore

North Core Banks NC 28531

Landholding Agency: Interior

Property Number: 61201710009

Status: Unutilized

Comments: Dilapidated; unsound structurally; located in Barrier Island only accessible by boat.

Reasons: Floodway; Extensive deterioration; Isolated area

Julian Hamilton House

Cape Lookout National Seashore

North Core Banks NC 28531

Landholding Agency: Interior

Property Number: 61201710010

Status: Unutilized

Comments: Structurally unsound; dilapidated; located on Barrier Island only accessible by boat.

Reasons: Floodway; Isolated area; Extensive deterioration

Utah

R01320000000100B Scofield Dam

Scofield Reservoir

Scofield UT 84526

Landholding Agency: Interior

Property Number: 61201710011

Status: Excess

Directions: Tenders House, R01320000000200B Scofield Shop Building

Comments: Property located within floodway which has not been correct or contained.

Reasons: Floodway

Storage Shed Lost Creek

Provo Area Office Weber Basin

Croydon UT 84108

Landholding Agency: Interior

Property Number: 61201710012

Status: Unutilized

Directions: R0526201400B

Comments: Ceiling collapsing, foundation has cracked; severe rodent infestation.

Reasons: Extensive deterioration

0244000200B & 02440004B

300 West 1100 North

Pleasant Grove UT 84062

Landholding Agency: Interior

Property Number: 61201710013

Status: Excess

Directions: Drill Crew Shop Warehouse & Equipment Shed

Comments: Dilapidated roof.

Reasons: Extensive deterioration

Virginia

Archie Martin Shed

Tract 26-136

Blue Ridge Parkway

Fancy Gap VA 24328

Landholding Agency: Interior

Property Number: 61201710001

Status: Excess

Comments: Overgrow by vegetation; structurally unsound.

Reasons: Extensive deterioration

Bowman Barn/Tract 26-135

Blue Ridge Parkway

Fancy Gap VA 24328

Landholding Agency: Interior

Property Number: 61201710002

Status: Excess

Comments: Overgrow by vegetation; structurally unsound; highly likely to collapse.

Reasons: Extensive deterioration

Branscombe Shed & Branscombe

Hay Shed/Tract 27-132

Blue Ridge Parkway

Fancy Gap VA 24328

Landholding Agency: Interior

Property Number: 61201710003

Status: Excess

Comments: Structurally unsound.

Reasons: Extensive deterioration

Coy Martin Shed/Barn

Tract 26-114

Blue Ridge Parkway

Fancy Gap VA 24328

Landholding Agency: Interior

Property Number: 61201710004

Status: Excess

Comments: Overgrow by vegetation; structurally unsound.

Reasons: Extensive deterioration

Hawks A-Frame Dwelling

Tract 66-145

Blue Ridge Parkway

Fancy Gap VA 24328

Landholding Agency: Interior

Property Number: 61201710005

Status: Excess

Comments: Overgrow by vegetation; structurally unsound.

Reasons: Extensive deterioration

Thomas Barn Tract 22-107

Blue Ridge Parkway

Floyd VA 24091

Landholding Agency: Interior

Property Number: 61201710006

Status: Excess

Comments: Overgrow by vegetation; unsound structurally; highly likely to collapse.

Reasons: Extensive deterioration

Land

Connecticut

Approx. (.20) acre of Land

NAVFAC Midlant PW NLON

Box 400, Bldg. 135 Grayling Ave.

Groton CT 06349

Landholding Agency: Navy

Property Number: 77201710006

Status: Underutilized

Directions: (8,690 sq. ft.)

Comments: Public access denied and no alternative method to gain access without compromising national security.

Reasons: Secured Area

Approx. (.45) acre of Land

NAVFAC Midlant PW NLON

Box 400, Bldg. 135 Grayling Ave.

Groton CT 06349

Landholding Agency: Navy

Property Number: 77201710007

Status: Underutilized

Directions: (19,947 sq. ft.)

Comments: Public access denied and no alternative method to gain access without compromising national security.

Reasons: Secured Area

[FR Doc. 2017-02045 Filed 2-2-17; 8:45 am]

BILLING CODE 4210-67-P